DEPARTMENT OF ENERGY

Federal Energy Regulatory Commission

Combined Notice of Filings #1

Take notice that the Commission received the following exempt wholesale generator filings:

Docket Numbers: EG19-38-000.

Applicants: Viridity Energy Solutions Inc.

Description: Notice of Self-Certification of Exempt Wholesale Generator of Viridity Energy Solutions Inc.

Filed Date: 12/21/18.

Accession Number: 20181221-5298.

Comments Due: 5 p.m. ET 1/11/19.

Docket Numbers: EG19-39-000.

Applicants: Viridity Energy Solutions Inc.

Description: Viridity Energy Solutions Inc. Self-Certification of EWG.

Filed Date: 12/21/18.

Accession Number: 20181221-5407.

Comments Due: 5 p.m. ET 1/11/19.

Docket Numbers: EG19-40-000.

Applicants: Pinetree Power LLC.

Description: Notice of Self-Certification of Exempt Wholesale Generator Status of Pinetree Power LLC.

Filed Date: 12/21/18.

Accession Number: 20181221-5412.

Comments Due: 5 p.m. ET 1/11/19.

Take notice that the Commission received the following electric rate filings:

Docket Numbers: ER10-2302-007.

Applicants: Public Service Company of New Mexico.

Description: Triennial Market Power Analysis for the Southwest Region of Public Service Company of New Mexico.

Filed Date: 12/21/18.

Accession Number: 20181221-5440.

Comments Due: 5 p.m. ET 2/19/19.

Docket Numbers: ER10-2564-009; ER10-2600 009; ER10-2289 009.

Applicants: Tucson Electric Power Company, UNS Electric, Inc., UniSource Energy Development Company.

Description: Triennial Market Power Update for the Southwest Region of Change in Status of Tucson Electric Power Company, et al.

Filed Date: 12/21/18.

Accession Number: 20181221-5461.

Comments Due: 5 p.m. ET 2/19/19.

Docket Numbers: ER15-1041-010; ER15-2205 010.

Applicants: Prairie Breeze Wind Energy II LLC, Prairie Breeze Wind Energy III LLC.

Description: Triennial Report of Prairie Breeze Wind Energy II LLC, et al.

Filed Date: 12/21/18.

Accession Number: 20181221-5458.

Comments Due: 5 p.m. ET 2/19/19.

Docket Numbers: ER15-1873-010.

Applicants: Buckeye Wind Energy LLC.

Description: Triennial Report of Buckeye Wind Energy LLC.

Filed Date: 12/21/18.

Accession Number: 20181221-5314.

Comments Due: 5 p.m. ET 2/19/19.

Docket Numbers: ER16-1720-008.

Applicants: Invenergy Energy Management LLC.

Description: Triennial Report of Invenergy Energy Management LLC.

Filed Date: 12/21/18.

Accession Number: 20181221-5319.

Comments Due: 5 p.m. ET 2/19/19.

Docket Numbers: ER18-471-004; ER18-472 004.

Applicants: States Edge Wind I LLC, States Edge Wind I Holdings LLC.

Description: Triennial Report of States Edge Wind I LLC, et al.

Filed Date: 12/21/18.

Accession Number: 20181221-5457.

Comments Due: 5 p.m. ET 2/19/19.

Docket Numbers: ER19-80-001.

Applicants: PJM Interconnection, L.L.C.

Description: Tariff Amendment: Response to the Commission's 11/27/2018 Deficiency Letter re: Market Efficiency to be effective 12/10/2018.

Filed Date: 12/21/18.

Accession Number: 20181221-5292.

Comments Due: 5 p.m. ET 1/11/19.

Docket Numbers: ER19-390-001.

Applicants: Southwestern Public Service Company.

Description: Tariff Amendment: Amendment to ER19-390 to be effective 11/22/2018.

Filed Date: 12/21/18.

Accession Number: 20181221-5295.

Comments Due: 5 p.m. ET 1/11/19.

Docket Numbers: ER19-676-000.

Applicants: GenOn Energy Management, LLC.

Description: § 205(d) Rate Filing: Market-Based Rate Tariff Revisions to be effective 12/22/2018.

Filed Date: 12/21/18.

Accession Number: 20181221-5288.

Comments Due: 5 p.m. ET 1/11/19.

Docket Numbers: ER19-677-000.

Applicants: RRI Energy Services, LLC.

Description: § 205(d) Rate Filing: Market-Based Rate Tariff Revisions to be effective 12/22/2018.

Filed Date: 12/21/18.

Accession Number: 20181221-5289.

Comments Due: 5 p.m. ET 1/11/19.

Docket Numbers: ER19-678-000.

Applicants: Consolidated Edison Company of New York, Inc.

Description: § 205(d) Rate Filing: PASNY Tariff RY 3 2019 to be effective 1/1/2019.

Filed Date: 12/21/18.

Accession Number: 20181221-5290.

Comments Due: 5 p.m. ET 1/11/19.

Docket Numbers: ER19-679-000.

Applicants: Consolidated Edison Company of New York, Inc.

Description: § 205(d) Rate Filing: WDS Tariff Jan. 1, 2019 to be effective 1/1/2019.

Filed Date: 12/21/18.

Accession Number: 20181221-5291.

Comments Due: 5 p.m. ET 1/11/19.

Docket Numbers: ER19-680-000.

Applicants: CS Berlin Ops, Inc.

Description: Baseline eTariff Filing: MBR Application to be effective 1/31/2019.

Filed Date: 12/21/18.

Accession Number: 20181221-5293.

Comments Due: 5 p.m. ET 1/11/19.

Docket Numbers: ER19-681-000.

Applicants: Sempra Gas & Power Marketing, LLC.

Description: § 205(d) Rate Filing: Sempra Gas & Power Marketing, LLC Revised Market Based Rate Tariff to be effective 12/22/2018.

Filed Date: 12/21/18.

Accession Number: 20181221-5296.

Comments Due: 5 p.m. ET 1/11/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 26, 2018.
Nathaniel J. Davis, Sr.,
Deputy Secretary.

[FR Doc. 2018-28480 Filed 1-7-19; 8:45 am]

BILLING CODE 6717-01-P